DEPARTMENT OF COMMERCE

National Oceanic and Atmospheric Administration

RIN 0648-XE247

Fisheries of the South Atlantic; South Atlantic Fishery Management Council; Public Meeting

AGENCY: National Marine Fisheries Service (NMFS), National Oceanic and Atmospheric Administration (NOAA), Commerce.

ACTION: Notice of public meetings of the South Atlantic Fishery Management Council's Snapper Grouper Advisory Panel (AP) and Information and Education AP.

SUMMARY: The South Atlantic Fishery Management Council (SAFMC) will hold meetings of its Snapper Grouper AP and Information & Education AP in North Charleston, SC.

DATES: The Snapper Grouper AP will meet from 1:30 p.m. on Tuesday, November 3, 2015 until 5 p.m. on Wednesday, November 4, 2015. The Information and Education AP meeting will be held Thursday, November 5, 2015, from 9 a.m. until 5 p.m.

ADDRESSES:

Meeting address: The meetings will be held at the Crowne Plaza Hotel, 4831 Tanger Outlet Blvd., North Charleston, SC 29418; phone: (877) 227-6963 or (843) 744-4422; fax: (843) 744-4472.

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The items of discussion in the individual meeting agendas are as follows:

Snapper Grouper Advisory Panel Agenda

1. The AP will receive updates on the status of Amendments under development and recently implemented and the October meeting of the SAFMC Scientific and Statistical Committee

2. The AP will review and provide recommendations as appropriate on the following Amendments currently under development:

a. Amendment 37 to the Snapper Grouper Fishery Management Plan (hogfish)

b. Amendment 25 (blueline tilefish, yellowtail snapper, and black sea bass)

c. Amendment 36 (Spawning Special Management Zones)

d. Joint South Atlantic (SA)/Gulf of Mexico (GM) Amendment on South Florida Issues (Yellowtail Snapper Acceptable Biological Catch and Annual Catch Limits & Accountability Measures)

e. Joint SA/GM Charterboat Electronic Reporting Amendment

3. Update on Atlantic Coastal Cooperative Statistics Program proposal for electronic reporting for charter fleet

4. Update on the October 2015 Council Visioning Workshop

Information and Education Advisory Panel Agenda

The Information and Education AP will receive updates on the following and provide recommendations as appropriate:

1. SAFMC System Management Plan—Outreach Sections

2. SAFMC Vision Blueprint for the Snapper Grouper Fishery—Communication Goal

3. SAFMC Technical Documents and Public Input Strategies

4. SAFMC Fishery Citizen Science Initiative

5. Marine Resource Education Program—South East

6. 2016 SAFMC Outreach Projects

Special Accommodations

These meetings are physically accessible to people with disabilities. Requests for auxiliary aids should be directed to the council office (see ADDRESSES) 3 days prior to the meeting.

Note: The times and sequence specified in this agenda are subject to change.

Authority: 16 U.S.C. 1801 et seq.

Dated: October 13, 2015.
Tracey L. Thompson,
Acting Deputy Director, Office of Sustainable Fisheries, National Marine Fisheries Service.

[FR Doc. 2015-26350 Filed 10-15-15; 8:45 am]

BILLING CODE 3510-22-P